EXECUTIVE OFFICE OF THE PRESIDENT

Office of National Drug Control Policy

Designation of Twelve Areas as High Intensity Drug Trafficking Areas

AGENCY: Office of National Drug Control Policy (ONDCP).

ACTION: Notice of twelve HIDTA designations.

SUMMARY: The Director of the Office of National Drug Control Policy designated 12 additional areas as High Intensity Drug Trafficking Areas (HIDTA) pursuant to 21 U.S.C. 1706(b)(1). The new areas are (1) Davidson County in Tennessee as part of the Appalachia HIDTA; (2) Chatham County in Georgia as part of the Atlanta/Carolinas HIDTA; (3) Manatee and Leon Counties in Florida as part of the Central Florida and North Florida HIDTAs, respectively; (4) Lake County in Illinois as part of the Chicago HIDTA; (5) Chambers County in Texas as part of the Houston HIDTA; (6) Vanderburgh County in Indiana as part of the Indiana HIDTA; (7) Eau Claire County in Wisconsin as part of the North Central HIDTA; (8) Grant County in Washington as part of the Northwest HIDTA; (9) Westmoreland County in Pennsylvania as part of the Ohio HIDTA; (10) Kootenai County in Idaho as part of the Oregon/Idaho HIDTA; and (11) Allegany County in Maryland as part of the Washington/Baltimore HIDTA. The Director of ONDCP also removed one area as a HIDTA pursuant to 21 U.S.C. 1706(c), effective May 27, 2020. The area removed from HIDTA designation is Barrow County in Georgia as part of the Atlanta/Carolinas HIDTA. The Executive Board of Atlanta/Carolinas HIDTA requested removal of Barrow County from designation after assessing the threat and determining that it no longer met the statutory criteria necessary for designation as a HIDTA county. ONDCP evaluated and accepted the request.

FOR FURTHER INFORMATION CONTACT: Questions regarding this notice should be directed to Shannon L. Kelly, National HIDTA Director, Office of National Drug Control Policy, Executive Office of the President, Washington, DC 20503; (202) 395-5872.

Dated: June 1, 2020.
Michael J. Passante,
Acting General Counsel.

[FR Doc. 2020-12105 Filed 6-3-20; 8:45 am]

BILLING CODE 3280-F5-P